DEPARTMENT OF LABOR

Employment and Training Administration

[TA-W-53,685]

TMH, Portage, Indiana; Notice of Termination of Investigation

Pursuant to section 221 of the Trade Act of 1974, as amended, an investigation was initiated on December 2, 2003, in response to a worker petition filed by Transportation-Communications International Union on behalf of workers at TMH, Portage, Indiana.

The petitioning group of workers is covered by an active certification issued on July 9, 2003, and which remains in effect (TA-W-53,685). Consequently, further investigation in this case would serve no purpose, and the investigation has been terminated.

Signed in Washington, DC, this 12th day of December, 2003.
Elliott S. Kushner,
Certifying Officer, Division of Trade Adjustment Assistance.

[FR Doc. 04-296 Filed 1-6-04; 8:45 am]

BILLING CODE 4510-30-P